DEPARTMENT OF ENERGY

Proposed Agency Information Collection

AGENCY: U.S. Department of Energy.

ACTION: Notice of Proposed Data Collection and Request for Comments.

SUMMARY: The Department of Energy as part of its continuing effort to reduce paperwork and respondent burden, invites the general public and other Federal agencies to take this opportunity to comment on a proposed and/or continuing information collections, as required by the Paperwork Reduction Act of 1995, Public Law 104-103 (44 U.S.C. 3506 (c)(2)(A)).

DATES: Written comments must be submitted on or before December 8, 2008.

ADDRESSES: T. Fitzsimmons, SC-22.2/Germantown Building, U.S. Department of Energy, 1000 Independence Ave., SW., Washington, DC 20585-1290.

FOR FURTHER INFORMATION CONTACT: Timothy Fitzsimmons, Office of Science, Office Basic Energy Sciences, Materials Sciences and Engineering Division, SC-22.2 Tim.Fitzsimmons@science.doe.gov.

SUPPLEMENTARY INFORMATION: 1. Abstract: The information collected on aspects of the research environment will provide a number of insights on the determinants of scientific research advances and innovation. These can be used to improve the future impact of science programs. It will also help to build a science about science and innovation policy, as part of the National Science Foundation (NSF) program by that name. In addition to DOE funding, the NSF has funded the Center for Innovation at the University of Maryland to test hypotheses about the determinants of innovation in 72 research projects selected from five national laboratories of the Department of Energy and the National Oceanographic and Atmospheric Administration. The projects will be selected by the middle managers in these national laboratories to reflect four kinds of innovation profiles: small scope incremental innovation, small-scope radical innovation, large scope incremental innovation, large scope radical innovation. Extent and type of innovation is defined by project mangers and peers. The projects will be located in departments and centers that reflect five different scientific and engineering disciplines: chemistry, biology, material sciences, alternative energy, and geophysical science. A survey to measure the determinants of innovation that has been carefully developed over several years will be given to all members of small scope projects and at least 25 members of large scope projects plus a 50 percent random sample of non-members of these projects in the departments and centers of the national laboratory where the projects are located.

Middle managers will be interviewed about the characteristics of their discipline to determine if the tests of the hypotheses are robust and independent of disciplinary effects. They will also be asked to report any policies for encouraging the construction of complex research teams and cross-fertilization, two main themes in the survey. This information will be used to determine if these policies increase communication and technical exchange within and across research teams. Top managers will also be interviewed about strategies to build diverse work teams and encourage the exchange of information. Finally, it is anticipated that project leaders will be interviewed several years later to measure the amount of innovation obtained in their projects to validate the assessments of the middle managers.

2. Method of Data Collection: The Center for Innovation will collect this information by interviews with the managers and electronically with customized Research Environment Survey web sites at each of the research organizations to facilitate the data collection.

This information collection request contains: (1) OMB Number New; (2) Information Collection Request Title: Developing the Science of Science and Innovation Policy: Profiles of Innovativeness and Effective Research Communication; (3) Type of Review: New; (4) Affected Public: Federal civil servants, the managers and researchers in the research organizations; (5) Estimated Number of Respondents: 1,800 researchers and 132 project leaders and managers; (6) Estimated Time per response: One half hour for the 1,800 researchers and one hour for the 132 project leaders and managers; (7) Estimated Total Annual Burden Hours: 900 hours for researchers and 132 hours for project leaders and the managers in FY 2008 and FY 2009; (8) Estimated Total Annual Cost: $54,510 total in FY2008 and FY2009, based on a mean hourly wage of $52.82 for engineering managers from the 2006 National Compensation Survey of the Bureau of Labor Statistics. It is likely that this figure does not include national laboratory overheard; and (9) Respondents' Obligation: Voluntary.

Request for comments are invited on: (a) Whether the proposed collection of information is necessary for the proper performance of the functions of the agency, including whether the information shall have practical utility; (b) the accuracy of the agency's estimate of the burden (including hours and cost) of the proposed collection of information; (c) ways to enhance the quality, utility, and clarity of the data collected; and (d) ways to minimize the burden of the collection of information on respondents, including automated collection techniques or other forms of information technology.

Comments submitted in response to this notice will be summarized and included in the request for OMB approval of this information collection. They also will become a matter of public record.

Statutory Authority: Sec. 3506(c)(2)(A) of the Paperwork Reduction Act of 1995 (Pub. L. 104-13).

Issued in Washington, DC, on October 3, 2008.
Raymond L. Orbach,
Under Secretary for Science.

[FR Doc. E8-23895 Filed 10-7-08; 8:45 am]

BILLING CODE 6450-01-P